DEPARTMENT OF VETERANS AFFAIRS

Construction Advisory Board; Notice of Establishment

As required by section 9(a)(2) of the Federal Advisory Committee Act, the Department of Veterans Affairs (VA) hereby gives notice of the establishment of the Construction Advisory Board. The Secretary of Veterans Affairs has determined that establishing the Board is both in the public interest and essential to the conduct of VA business.

The Construction Advisory Board will provide advice and make recommendations to the Secretary on the nature and scope of the Department's construction process. In carrying out its responsibilities, the Board will focus or design approval, procurement and administration of construction contracts, quality assurance, and construction project management.

The Board is expected to submit its final report and recommendations not later than December 31, 2005.

Dated: April 19, 2005.
By Direction of the Secretary.
E. Philip Riggin,
Committee Management Officer.

[FR Doc. 05-8894 Filed 5-3-05; 8:45 am]

BILLING CODE 8320-01-M